INTERNATIONAL TRADE COMMISSION

[Investigation No. 337-TA-948]

Certain Toy Figurines and Toy Sets Containing the Same; Commission's Determination To Terminate the Investigation in Its Entirety Based Upon Consent Order Stipulations and Settlement Agreements; Issuance of Consent Orders

AGENCY: U.S. International Trade Commission.

ACTION: Notice.

SUMMARY: Notice is hereby given that the U.S. International Trade Commission has determined to terminate the investigation as to the remaining respondents, LaRose Industries, LLC d/b/a Cra-Z-Art (“LaRose”) and MEGA Brands, Inc. (“MEGA”), based upon consent order stipulations and settlement agreements. The Commission has entered consent orders with respect to LaRose and MEGA.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 16, 2015, based on a complaint filed by LEGO A/S of Billund, Denmark; LEGO System A/S of Billund, Denmark; and LEGO Systems, Inc. of Enfield, Connecticut. 80 FR 13629-30 (March 16, 2015). The complaint alleged violations of section 337 of the Tariff Act of 1930, as amended (19 U.S.C. 1337), in the importation into the United States, the sale for importation, and the sale within the United States after importation of certain toy figurines and toy sets containing the same by reason of infringement of four U.S. design patents and four registered U.S. copyrights. The notice of investigation named as respondents LaRose; MEGA; and Best-Lock Construction Toys, Inc., of Miami, Florida (“Best-Lock”). Best-Lock has been terminated from the investigation based on a consent order. See Notice of a Commission Determination Not to Review an Initial Determination Terminating the Investigation as to Respondent Best-Lock Construction Toys, Inc., Based on a Consent Order Stipulation and Proposed Consent Order; Issuance of Consent Order (June 19, 2015). The Office of Unfair Import Investigations was also named as a party.

On July 9, 2015, Complainants and LaRose filed a joint motion to terminate LaRose based on a consent order stipulation, a proposed consent order, and a settlement agreement. On July 22, 2015, the investigative attorney filed a response in conditional support of the motion provided that the movants submit a revised version of the public settlement agreement that contained fewer redactions. On July 31, 2015, the ALJ ordered the movants to file a revised version of the public settlement agreement, which the movants complied with on August 24, 2015. See Order Nos. 18 and 21. On August 26, 2015, the ALJ granted the joint motion as an initial determination (“ID”). See Order No. 21.

On July 28, 2015, Complainants and MEGA filed a renewed joint motion to terminate the investigation as to MEGA based on a consent order stipulation, a proposed consent order, and a settlement agreement. On August 21, 2015, complainants and MEGA jointly submitted a revised consent order stipulation and proposed consent order. The Investigative Attorney did not oppose the renewed motion to terminate based in part on the August 21, 2015, revised consent order stipulation and proposed consent order. On August 26, 2015, the ALJ ordered the movants to file a revised version of the public settlement agreement, which the movants complied with on August 31, 2015. See Order Nos. 22 and 23. On September 3, 2015, the ALJ granted the renewed joint motion as an ID. See Order No. 23.

The Commission determined to review the IDs on September 18, 2015, and October 1, 2015, respectively, because the consent order stipulations and the proposed consent orders did not comply with Commission Rule 210.21(c). The moving parties were requested to file with the Commission revised versions of the consent order stipulations and proposed consent orders in compliance with that Rule. On October 7, 2015, LaRose and MEGA submitted revised consent order stipulations and revised proposed consent orders in compliance with Rule 210.21(c).

The Commission has determined to terminate the investigation in its entirety, and to issue consent orders with respect to LaRose and MEGA.

The authority for the Commission's determination is contained in section 337 of the Tariff Act of 1930, as amended (19 U.S.C. 1337), and in part 210 of the Commission's Rules of Practice and Procedure (19 CFR part 210).

By order of the Commission.
Issued: October 21, 2015.
Lisa R. Barton,
Secretary to the Commission.

[FR Doc. 2015-27263 Filed 10-26-15; 8:45 am]

BILLING CODE 7020-02-P